DEPARTMENT OF ENERGY

Federal Energy Regulatory Commission

Combined Notice of Filings #1

April 22, 2010.

Take notice that the Commission received the following exempt wholesale generator filings:

Docket Numbers: EG10-36-000.

Applicants: Otay Acquisition Company, LLC.

Description: Notice of Self-Certification of Exempt Wholesale Generator Status of Otay Acquisition Company, LLC.

Filed Date: 04/22/2010.

Accession Number: 20100422-5110.

Comment Date: 5 p.m. Eastern Time on Thursday, May 13, 2010.

Take notice that the Commission received the following electric rate filings:

Docket Numbers: ER00-2885-029; ER01-2765-028; ER02-2102-028; ER05-1232-025; ER07-1358-015; ER09-1141-008.

Applicants: J.P. Morgan Ventures Energy Corporation, BE Louisiana LLC, Cedar Brakes I, L.L.C., Utility Contract Funding, L.L.C., Cedar Brakes II, L.L.C., J.P. Morgan Commodities Canada Corporation.

Description: J.P. Morgan submits supplement to notice of change in status.

Filed Date: 04/16/2010.

Accession Number: 20100421-0034.

Comment Date: 5 p.m. Eastern Time on Friday, May 7, 2010.

Docket Numbers: ER01-424-011; ER01-313-011.

Applicants: Pacific Gas and Electric Company; California Independent System Operator Corporation.

Description: Refund Report of the California Independent System Operator Corporation.

Filed Date: 04/21/2010.

Accession Number: 20100421-5180.

Comment Date: 5 p.m. Eastern Time on Wednesday, May 12, 2010.

Docket Numbers: ER07-771-004.

Applicants: E.ON U.S., LLC.

Description: E.ON U.S. LLC Annual true-up filing under Open Access Transmission Tariff.

Filed Date: 04/22/2010.

Accession Number: 20100422-5159.

Comment Date: 5 p.m. Eastern Time on Thursday, May 13, 2010.

Docket Numbers: ER09-1051-003.

Applicants: ISO New England Inc., New England Power Pool

Description: ISO New England, Inc et al submits response to the compliance requirements set forth in the Jan 21 Order.

Filed Date: 04/21/2010.

Accession Number: 20100422-0202.

Comment Date: 5 p.m. Eastern Time on Wednesday, May 12, 2010.

Docket Numbers: ER10-1071-000.

Applicants: Midwest Independent Transmission System Operator, Inc.

Description: Midwest Independent Transmission System Operator, Inc submits an executed Amended and Restated Generator Interconnection Agreement etc.

Filed Date: 04/21/2010.

Accession Number: 20100421-0203.

Comment Date: 5 p.m. Eastern Time on Wednesday, May 12, 2010.

Docket Numbers: ER10-1072-000.

Applicants: Westar Energy, Inc.

Description: Westar Energy, Inc. submits Supplemental Generation Agreements between Westar and the Cities of Herington and Wamego, Kansas designated as Rate Schedule FERC 338 and 339.

Filed Date: 04/21/2010.

Accession Number: 20100421-0209.

Comment Date: 5 p.m. Eastern Time on Wednesday, May 12, 2010.

Docket Numbers: ER10-1073-000.

Applicants: Electrade Corporation.

Description: Electrade Corporation submits tariff filing per 35.12: Baseline Tariff Filing to be effective 4/21/2010.

Filed Date: 04/21/2010.

Accession Number: 20100421-5112.

Comment Date: 5 p.m. Eastern Time on Wednesday, May 12, 2010.

Docket Numbers: ER10-1074-000; ER10-1075-000; ER10-1076-000.

Applicants: Raven One, LLC; Raven Two, LLC; Raven Three, LLC

Description: Raven One, LLC et al submits notice of cancellation of the Companies' market-based rate tariffs currently on file with the Commission.

Filed Date: 04/21/2010.

Accession Number: 20100422-0201.

Comment Date: 5 p.m. Eastern Time on Wednesday, May 12, 2010.

Take notice that the Commission received the following electric securities filings:

Docket Numbers: ES10-35-000.

Applicants: American Transmission Company LLC, ATC Management Inc.

Description: American Transmission Company LLC and ATC. Management Inc under Section 204 of the Federal Power Act for Authorization to Issue Securities.

Filed Date: 04/21/2010.

Accession Number: 20100421-5145.

Comment Date: 5 p.m. Eastern Time on Wednesday, May 12, 2010.

Take notice that the Commission received the following electric reliability filings:

Docket Numbers: RD10-11-000.

Applicants: North American Electric Reliability Corporation.

Description: Petition of the North American Electric Reliability Corporation for Approval of Interpretation to Reliability Standard CIP-001—Cyber Security—Sabotage Reporting, Requirement R2.

Filed Date: 04/21/2010.

Accession Number: 20100421-5077.

Comment Date: 5 p.m. Eastern Time on Wednesday, May 12, 2010.

Docket Numbers: RD10-12-000.

Applicants: North American Electric Reliability Corporation.

Description: Petition of the North American Electric Reliability Corporation for Approval of Interpretation to Reliability Standard CIP-005-2, Cyber Security, Electronic Security Perimeter(s), Section 4.2.2 and Requirement R1.3.

Filed Date: 04/21/2010.

Accession Number: 20100421-5078.

Comment Date: 5 p.m. Eastern Time on Wednesday, May 12, 2010.

Take notice that the Commission received the following electric reliability filings:

Docket Numbers: RR10-1-001.

Applicants: North American Electric Reliability Corporation.

Description: Compliance Filing of the North American Electric Reliability Corp in Response to January 21, 2010 Commission Order Concerning Appendix 4D to the NERC Rules of Procedure- Procedure for Requesting and Receiving Technical Feasibility Exceptions.

Filed Date: 04/21/2010.

Accession Number: 20100421-5166.

Comment Date: 5 p.m. Eastern Time on Wednesday, May 12, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-10353 Filed 5-3-10; 8:45 am]

BILLING CODE 6717-01-P